DEPARTMENT OF DEFENSE

Department of the Army

Transportation Workers Identification Card (TWIC) Removal for Commercial Users To Access Electronic Transportation Acquisition (ETA)

AGENCY: Department of the Army, DoD.

ACTION: Notice.

SUMMARY: To implement DoD Instruction 8520.2, dated April 1, 2004, SDDC required all commercial accounts accessing transportation systems and applications to use a commercial PKI certificate or Transportation Workers Identification Credential (TWIC). TWIC does not meet DOD security standards and cannot be used as of January 29, 2013.

DATES: Effective date: January 29, 2013.

ADDRESSES: Submit comments to SDDC/G6/IMA/ES, #1 Soldier Way, Scott AFB, IL 62225 ATTN: ETA Program Manager.

FOR FURTHER INFORMATION CONTACT: ETA Program Manager at sddc.safb.etapmo@us.army.mil. Technical questions should be addressed to the source of certificate.

SUPPLEMENTARY INFORMATION: The DoD PKI office has determined that the Transportation Workers Identification Card (TWIC) PKI certificate cannot be used to authenticate users for access to DoD systems. The DoD PKI office has not established a trust relationship with Homeland Security/TSA. Information on the TWIC can be found at http://www.tsa.gov.

Starting January 29, 2013, TWIC certificates cannot be accepted by ETA to access the SDDC transportation applications and USTRANSCOM Defense Personal Property System (DPS). All current TWIC holders accessing an application within ETA will need to purchase an External Certificate Authority (ECA) prior to January 29, 2013. Instructions for purchase and implementation can be found on the ETA home page, under Help, PKI Information. To view all External Approved PKI's please refer to the DISA interoperability Web site: http://iase.disa.mil/pki-pke/interoperability/index.html. If you have any questions, please contact ETA Program Manager at sddc.safb.etapmo@us.army.mil.

References: Department of Defense Instruction number 8520.2, April 1, 2004, 4.4 Joint Task Force-Global Network Operations (JTF-GNO) Communication Tasking Order (CTO) 07-015 Task 10.

Miscellaneous: DOD Instruction 8520.2 can be accessed at the following Web site: DoD Instruction 8520.2 (http://www.cac.mil/assets/pdfs/DoDD_8520.2.pdf).

Judith A. Beussink,
Deputy to the Commander for G6/CIO.

[FR Doc. 2012-29693 Filed 12-7-12; 8:45 am]

BILLING CODE 3710-08-P